DEPARTMENT OF HOMELAND SECURITY

Federal Emergency Management Agency

[Docket ID FEMA-2014-0002; Internal Agency Docket No. FEMA-B-1418]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 27, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1418, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Maricopa County, Arizona, and Incorporated Areas
Maps Available for Inspection Online at: http://www.fema.gov/preliminaryfloodhazarddata
City of Avondale | Development and Engineering Services Department, 11465 West Civic Center Drive, Avondale, AZ 85323.
City of Chandler | Transportation and Development, 215 East Buffalo Street, Chandler, AZ 85255.
City of Goodyear | Engineering Department, 14455 West Van Buren Street, Suite D 101, Goodyear, AZ 85338.
City of Mesa | Engineering Department, City Hall, 20 East Main Street, 5th Floor, Mesa, AZ 85211.
City of Phoenix | Street Transportation Department, 200 West Washington Street, 5th Floor, Phoenix, AZ 85003.
City of Scottsdale | Planning Records, 7447 East Indian School Road, Suite 100, Scottsdale, AZ 85251.
Town of Gila Bend | Town Hall, 644 West Pima Street, Gila Bend, AZ 85337.
Town of Gilbert | Development Engineering, 90 East Civic Center Drive, Gilbert, AZ 85296.
Unincorporated Areas of Maricopa County | Flood Control District of Maricopa County, 2801 West Durango Street, Phoenix, AZ 85009.
Sierra County, California, and Incorporated Areas
Maps Available for Inspection Online at: http://www.fema.gov/preliminaryfloodhazarddata
Unincorporated Areas of Sierra County | Sierra County Department of Planning, 101 Courthouse Square, Downieville, CA 95936.
Adams County, Colorado, and Incorporated Areas
Maps Available for Inspection Online at: http://www.fema.gov/preliminaryfloodhazarddata
City of Northglenn | 11701 Community Center Drive, Northglenn, CO 80233.
City of Thornton | 12450 Washington Street, Thornton, CO 80241.
Unincorporated Areas of Adams County | 4430 South Adams County Parkway, Suite W2000B, Brighton, CO 80601.
City and County of Broomfield, Colorado, and Incorporated Areas
Maps Available for Inspection Online at: www.fema.gov/preliminaryfloodhazarddata
City and County of Broomfield | City Hall, Engineering Department, One Descombes Drive, Broomfield, CO 80020.
Jefferson County, Colorado, and Incorporated Areas
Maps Available for Inspection Online at: www.fema.gov/preliminaryfloodhazarddata
City of Arvada | Engineering Department, 8101 Ralston Road, Arvada, CO 80001.
City of Westminster | 4800 West 92nd Ave., Westminster, CO 80031.
Unincorporated Areas of Jefferson County | Jefferson County Department of Planning and Zoning, 100 Jefferson County Parkway, Suite 3550, Golden, CO 80419.
Flathead County, Montana, and Incorporated Areas
Maps Available for Inspection Online at: http://www.fema.gov/preliminaryfloodhazarddata
City of Kalispell | Planning Director, Planning Department, 17 2nd Street East, Suite 211, Kalispell, MT 59901.
City of Whitefish | Planning Director, Planning & Building Department, 1005C Baker Avenue, Whitefish, MT 59937.
Unincorporated Areas of Flathead County | Planning Director, Planning & Zoning Office, 1035 1st Avenue West, Kalispell, MT 59901.
Stillwater County, Montana, and Incorporated Areas
Maps Available for Inspection Online at: http://www.fema.gov/preliminaryfloodhazarddata
Town of Columbus | Stillwater County West Annex, 431 Quarry Road, Columbus, MT.
Unincorporated Areas of Stillwater County | Stillwater County West Annex, 431 Quarry Road, Columbus, MT.
Mecklenburg County, North Carolina, and Incorporated Areas
Maps Available for Inspection Online at: http://www.fema.gov/preliminaryfloodhazarddata
City of Charlotte | Mecklenburg County Storm Water Services Office, 700 North Tryon Street, Charlotte, NC 28202.
Town of Cornelius | Town Hall, 21445 Catawba Avenue, Cornelius, NC 28031.
Town of Huntersville | Planning Department, 101 Huntersville-Concord Road, Huntersville, NC 28078.
Town of Pineville | Town Hall, 200 Dover Street, Pineville, NC 28134.
Unincorporated Areas of Mecklenburg County | Mecklenburg County Storm Water Services Office, 700 North Tryon Street, Charlotte, NC 28202.
Davis County, Utah, and Incorporated Areas
Maps Available for Inspection Online at: http://www.fema.gov/preliminaryfloodhazarddata
City of Bountiful | City Hall, 790 South 100 East, Bountiful, UT 84010.
City of Centerville | Community Development Department, 655 North 1250 West, Centerville, UT 84014.
City of Farmington | City Hall, 160 South Main Street, Farmington, UT 84025.
City of Fruit Heights | City Hall, 910 South Mountain Road, Fruit Heights, UT 84037.
City of Kaysville | City Hall, 23 East Center Street, Kaysville, UT 84037.
City of Layton | City Center, 437 North Wasatch Drive, Layton, UT 84041.
City of South Weber | City Hall, 1600 East South Weber Drive, South Weber, UT 84405.
City of West Bountiful | City Hall, 550 North 800 West, West Bountiful, UT 84087.
City of Woods Cross | City Hall, 1555 South 800 West, Woods Cross, UT 84087.
Unincorporated Areas of Davis County | Davis County Administration Building, 61 South Main Street, Farmington, UT 84025.

(Catalog of Federal Domestic Assistance No. 97.022, “Flood Insurance.”)

Dated: June 26, 2014.
Roy E. Wright,
Deputy Associate Administrator for Mitigation, Department of Homeland Security, Federal Emergency Management Agency.

[FR Doc. 2014-17620 Filed 7-25-14; 8:45 am]

BILLING CODE 9110-12-P